INTERNATIONAL TRADE COMMISSION

[Investigation. No. 337-TA-1383]

Certain Electronic Eyewear Products and Components Thereof; Notice of Institution of Investigation

AGENCY: U.S. International Trade Commission.

ACTION: Notice.

SUMMARY: Notice is hereby given that a complaint was filed with the U.S. International Trade Commission on November 20, 2023, under section 337 of the Tariff Act of 1930, as amended, on behalf of Ingeniospec, LLC of San Jose, California. The complaint alleges violations of section 337 based upon the importation into the United States, the sale for importation, and the sale within the United States after importation of certain electronic eyewear products and components thereof by reason of the infringement of certain claims of U.S. Patent No. 8,770,742 (“the '742 patent”); U.S. Patent No. 10,310,296 (“the '296 patent”); U.S. Patent No. 11,762,224 (“the '224 patent”); and 11,803,069 (“the '069 patent”). The complaint further alleges that an industry in the United States exists, or is in the process of being established, as required by the applicable Federal Statute. The complainant requests that the Commission institute an investigation and, after the investigation, issue a limited exclusion order and cease and desist orders.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Katherine Hiner, The Office of Docket Services, U.S. International Trade Commission, telephone (202) 205-1802.

SUPPLEMENTARY INFORMATION:

Authority: The authority for institution of this investigation is contained in section 337 of the Tariff Act of 1930, as amended, 19 U.S.C. 1337, and in section 210.10 of the Commission's Rules of Practice and Procedure, 19 CFR 210.10 (2023).

Scope of Investigation: Having considered the complaint, the U.S. International Trade Commission, on December 20, 2023, ORDERED THAT—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claim 18 of the '742 patent; claims 1-18, 20-25, 28-37, 40, and 42 of the '296 patent; claims 27-42 and 44-48 of the '224 patent; and claims 1-14 and 16 of the '069 patent, and whether an industry in the United States exists, or is in the process of being established, as required by subsection (a)(2) of section 337;

(2) Pursuant to section 210.10(b)(1) of the Commission's Rules of Practice and Procedure, 19 CFR 210.10(b)(1), the plain language description of the accused products or category of accused products, which defines the scope of the investigation, is “eyewear products containing electronic components in the frames or lenses, and associated components”;

(3) For the purpose of the investigation so instituted, the following are hereby named as parties upon which this notice of investigation shall be served:

(a) The complainant is:

Ingeniospec, LLC, 4010 Moorpark Avenue, Suite 211, San Jose, CA 95129.

(b) The respondents are the following entities alleged to be in violation of section 337, and are the parties upon which the complaint is to be served:

Ampere LLC, 8 The Green, Suite A, Dover, DE 19901.

Ampere Technologies, Inc., 8 The Green, Suite A, Dover, DE 19901.

GGTR LLC, 8 The Green, Suite A, Dover, DE 19901.

Gogotoro LLC, 60 Broadway, 10M, Brooklyn, NY 11249.

Zhuhai Wicue Technology Co., Ltd., Room 113, Building 19B, No. 1889 East, Huandao Road, Hengqin District, Zhuhai, Guangdong, China.

Bose Corporation, 100 The Mountain Road, Framingham, MA 01701.

Epson America, Inc., 3131 Katella Avenue, Los Alamitos, CA 90720.

Seiko Epson Corporation, 3-3-5 Owa, Suwa-shi, Nagano 392-8502, Japan.

Everysight Ltd., Building 3, Floor 4, Andrei Sakharov St 9, Haifa, Israel.

Everysight US Inc., 101 Avenue of the Americas, 8th & 9th Floors, New York, NY 10013.

Quanta Computer Incorporated, No. 211, Wenhua 2nd Road, Guishan District, Taoyuan City, Taiwan.

Lenovo (United States), Inc., 8001 Development Drive, Morrisville, NC 27560.

Lenovo Group Limited, 23rd Floor, Lincoln House, Taikoo Place, 979 King's Road, Quarry Bay, Hong Kong, S.A.R. of China.

Lenovo Information Products (Shenzhen) Co., Ltd., 2F, No. 1 Plant, Lenovo Innovation Park, Lidu Road, Loucun Community, Xinhu Street, Guangming District, 518107 Shenzhen, China.

Lucyd Ltd., 12 New Fetter Lane, London, United Kingdom, EC4A 1JP.

Innovative Eyewear, Inc., 11900 Biscayne Blvd., Suite 630, North Miami, FL 33181.

Luxottica Group S.p.A., Piazzale Luigi Cadorna 3 Milano, Milan, 20123 Italy.

Luxottica of America, Inc., 4000 Luxottica Place, Mason, OH 45040.

Magic Leap, Inc., 7500 W. Sunrise Boulevard, Plantation, FL 33322.

Razer Inc., 9 Pasteur, Suite 100, Irvine, CA 92618.

Razer USA Ltd., 9 Pasteur, Suite 100, Irvine, CA 92618.

TCL Technology Group Corporation, No. 17, Huifeng Third Road, Zhongkai High-tech Zone, Huizhou, Guangdong, China 516006.

TCL Electronics Holdings Limited, 5th Floor, Building 22E, 22 Science Park East Avenue, Hong Kong Science Park, Shatin, New Territories, Hong Kong.

Falcon Innovation Technology, (Shenzhen) Co., Ltd., A501, Bldg. D4, 1001 Zhongshanyuan Rd., Shenzhen, Guangdong China 518000.

ThirdEye Gen, Inc., 300 Alexander Park, Suite 206, Princeton, NJ 08540.

Vuzix Corporation, 25 Hendrix Road, West Henrietta, NY 14586.

XREAL, Inc., 440 N. Wolfe Road, Sunnyvale, CA 94085.

EXREAL Technology Limited, RM 1901, 19/F Lee Garden One, 33 Hysan Avenue, Causeway Bay, Hong Kong.

Matrixed Reality Technology Co., Ltd., No. 6, Xingchuang 2nd Road, Xinwu District, Wuxi, Jiangsu, China 214029; and

(4) For the investigation so instituted, the Chief Administrative Law Judge, U.S. International Trade Commission, shall designate the presiding Administrative Law Judge.

The Office of Unfair Import Investigations is not participating as a party to this investigation.

Responses to the complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainant of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: December 20, 2023.
Lisa Barton,
Secretary to the Commission.

[FR Doc. 2023-28455 Filed 12-26-23; 8:45 am]

BILLING CODE 7020-02-P